FEDERAL COMMUNICATIONS COMMISSION

47 CFR Parts 1 and 73

[AU Docket No. 19-290; DA 20-327; FRS 16645]

Auction 106 Postponed; Delay of Auction of FM Broadcast Construction Permits Initially Scheduled To Begin on April 28, 2020

AGENCY: Federal Communications Commission.

ACTION: Notice; auction postponed.

SUMMARY: This document summarizes the public notice that announces the indefinite postponement of Auction 106, an auction of construction permits in the FM broadcast service, in light of the COVID-19 pandemic.

DATES: Bidding in Auction 106 was scheduled to begin on April 28, 2020. A revised auction schedule will be announced in a future public notice.

FOR FURTHER INFORMATION CONTACT: For general auction questions, the Auctions Hotline at (888) 225-5322, option 2; or (717) 338-2868. For upfront payment refund questions, Scott Radcliffe at (202) 418-7518, Scott.Radcliffe@fcc.gov; or Theresa Meeks at (202) 418-2945, Theresa.Meeks@fcc.gov, in the FCC Revenue & Receivables Operations Group/Auctions. For press information, Janice Wise at (202) 418-8165.

SUPPLEMENTARY INFORMATION: This is a summary of the Auction 106 Postponement Public Notice, AU Docket No. 19-290, DA 20-327, released on March 25, 2020. The complete text of the Auction 106 Postponement Public Notice is available for public inspection and copying from 8:00 a.m. to 4:30 p.m. ET Monday through Thursday or from 8:00 a.m. to 11:30 a.m. ET on Fridays in the FCC Reference Information Center, located in Room CY-A257, of the FCC Headquarters, 445 12th Street SW, Washington, DC 20554, except when FCC Headquarters is otherwise closed to visitors. See, e.g., Public Notice, Restrictions on Visitors to FCC Facilities that appeared on the Commission website March 12, 2020. The Auction 106 Postponement Public Notice and related documents also are available on the internet at the Commission's website: www.fcc.gov/auction/106 or by using the search function for AU Docket No. 19-290 on the Commission's ECFS web page at http://www.fcc.gov/ecfs/. Alternative formats are available to persons with disabilities by sending an email to FCC504@fcc.gov or by calling the Consumer & Governmental Affairs Bureau at (202) 418-0530 (voice) or (202) 418-0432 (TTY).

I. General Information

1. The Office of Economics and Analytics (OEA), in conjunction with the Media Bureau (MB), announces an indefinite postponement of bidding in Auction 106, an auction of construction permits in the FM broadcast service, which had been scheduled to begin on Tuesday, April 28, 2020. OEA and MB take this action to protect the health and safety of Commission staff during the auction and so that parties have additional time to prepare to participate in Auction 106 given the COVID-19 pandemic. See Proclamation No. 9994, 85 FR 153337 (Mar. 13, 2020). OEA and MB will announce a revised schedule in a future public notice.

2. Refund of Upfront Payments. Auction 106 applicants that had submitted upfront payments may obtain a refund of those deposits after submitting a written request with the information specified below. All refunds of upfront payments will be returned to the payer of record as identified on the FCC Form 159 unless the payer submits written authorization instructing otherwise. Each applicant can provide this information by using the FCC auction application system to file its refund information electronically using the Refund Form icon found on the Auction Application Manager page in the FCC auction application system. After the required information is completed on the blank form, the form should be printed, signed, and submitted to the Commission by fax, email, or mail as instructed in the public notice. Refund processing generally takes up to two weeks to complete.

3. Short-Form Applications Dismissed, Prohibited Communications Rule Suspended. All short-form applications (FCC Form 175s) filed for Auction 106 are dismissed. OEA and MB will announce procedures for filing applications and other procedures to participate in Auction 106 in a future announcement.

4. The rules prohibiting certain communications set forth in 47 CFR 1.2105(c) no longer apply to each applicant that filed a short-form application in Auction 106.

Federal Communications Commission.
Cecilia Sigmund,
Federal Register Liaison Officer.

[FR Doc. 2020-07745 Filed 4-27-20; 8:45 am]

BILLING CODE 6712-01-P